DEPARTMENT OF HOMELAND SECURITY

Coast Guard

33 CFR Part 164

[Docket No. USCG-2005-21869]

RIN 1625-AA99

Vessel Requirements for Notices of Arrival and Departure, and Automatic Identification System; AIS Information Collection

AGENCY: Coast Guard, DHS.

ACTION: Final rule; information collection approval and announcement of effective date.

SUMMARY: The Coast Guard announces that it has received approval from the Office of Management and Budget for an information collection request associated with automatic identification system requirements in a final rule we published in the Federal Register on January 30, 2015. In that rule we stated we would publish a document in the Federal Register announcing the effective date of these collection-of-information related paragraphs. This rule establishes today as the effective date for those paragraphs.

DATES: Revised paragraphs (b) and (c) of § 164.46, published in the Federal Register on January 30, 2015 (80 FR 5282), are effective April 7, 2016.

FOR FURTHER INFORMATION CONTACT: If you have questions on this rule, call or email Mr. Jorge Arroyo, Office of Navigation Systems (CG-NAV-3), Coast Guard; telephone 202-372-1563, email Jorge.Arroyo@uscg.mil.

SUPPLEMENTARY INFORMATION:

Viewing Documents Associated With This Rule

To view the final rule published on January 30, 2015 (80 FR 5282), or other documents in the docket for this rulemaking, go to www.regulations.gov, type the docket number, USCG-2005-21869, in the “SEARCH” box and click “SEARCH.” Click on “Open Docket Folder” in the first item listed. Use the following link to go directly to the docket: www.regulations.gov/#!docketDetail;D=USCG-2005-21869.

Background

On January 30, 2015, the Coast Guard published a final rule that revised or amended existing notice of arrival and automatic identification system requirements. 80 FR 5282. Our final rule delayed the effective date of § 164.46(b) and (c) because these paragraphs contain collection of information provisions that require approval by the Office of Management and Budget (OMB) under the Paperwork Reduction Act of 1995, 44 U.S.C. 3501-3520. On March 29, 2016, OMB approved the collection assigned OMB Control Number 1625-0112, Enhanced Maritime Domain Awareness via Electronic Transmission of Vessel Transit Data. Accordingly, we announce that paragraphs (b) and (c) of § 164.46 are effective April 7, 2016. The approval for this collection of information expires on March 31, 2019.

This document is issued under the authority of 33 U.S.C. 1231 and 46 U.S.C. 70114. With respect to the other collection of information associated with the January 2015 final rule—OMB Control Number 1625-0100, Advance Notice of Vessel Arrival, on August 20, 2015—we published a document (80 FR 50576) that announced OMB's approval and the effective date of notice of arrival requirements in §§ 160.204(a)(5)(vii), 160.205, and 160.208(a) and (c) associated with that collection.

Dated: April 1, 2016.
J.G. Lantz,
Director of Commercial Regulations and Standards, U.S. Coast Guard.

[FR Doc. 2016-07958 Filed 4-6-16; 8:45 am]

BILLING CODE 9110-04-P